DEPARTMENT OF STATE

[Public Notice 5316]

State-70 Integrated Logistics Management System Records

SUMMARY: Notice is hereby given that the Department of State proposes to create a new system of records, STATE-70, pursuant to the Provisions of the Privacy Act of 1974, as amended (5 U.S.C.(r)), and the Office of Management and Budget Circular No. A-130, Appendix I. The Department's report was filed with the Office of Management and Budget on February 9, 2006.

It is proposed that the new system will be named “Integrated Logistics Management System Records.” This system description is proposed in order to reflect more accurately the Office of Logistics Transportation Management, Office and the General Services Offices at Posts' record-keeping system, activities and operations.

Any persons interested in commenting on this new system of records may do so by submitting comments in writing to Margaret P. Grafeld, Director; Office of Information Programs and Services; A/RPS/IPS; Department of State, SA-2; Washington, DC 20522-8100. This system of records will be effective 40 days from the date of publication, unless we receive comments that will result in a contrary determination.

This new system description, “Integrated Logistics Management System Records, State-70” will read as set forth below.

Dated: February 8, 2006.
Frank Coulter,
Acting Assistant Secretary for the Bureau of Administration, Department of State.

STATE-70

System Name:

Integrated Logistics Management System Records (ILMS).

Security Classification:

Unclassified.

System Location:

Department of State, 2201 C Street, NW., Washington, DC 20520; Overseas at U.S. Embassies, U.S. Consulates General, and U.S. Consulates; and U.S. Missions.

Categories of Individuals Covered by the System:

Current and former Civil Service (CS) and Foreign Service (FS) employees of the Department of State (DOS) including members of the Senior Executive Service, Presidential appointees, employees under full-time, part-time, intermittent, temporary, and limited appointments; anyone serving in an advisory capacity (compensated and uncompensated); other agency employees on detail to the Department or stationed at U.S. Missions abroad who use DOS transportation services; former Foreign Service Reserve Officers; Presidential Management Interns, Foreign Affairs Fellowship Program Fellows, student interns and other student summer hires, Stay-in-School student employees, and Cooperative Education Program participants.

Categories of Records in the System:

Personnel data and Travel Authorizations (TAs).

Authority for Maintenance of the System:

22 U.S.C. 4081, Travel and Related Expenses; 22 U.S.C. 5724, Travel and Transportation Expenses of Employees Transferred; 5 U.S.C. 301, 302, Management of the Department of State; 22 U.S.C. 2581, General Authority; 22 U.S.C. 2651a, Organization of the Department of State; 22 U.S.C. 2677, Availability of Funds for the Department of State; 22 U.S.C. 3921, Management of the Foreign Service; 22 U.S.C. 3927, Responsibility of Chief of Mission; Executive Order 9397 (Numbering System for Federal Accounts Relating to Individual Persons); Executive Order 9830 (as amended) (Amending the Civil Service Rules and Providing for Federal Personnel Administration); and Executive Order 12107 (as amended) (Relating to the Civil Service Commission and Labor-Management in the Federal Service).

Purpose(s):

The information contained in this system of records is collected and maintained by the Office of Logistics Management, Office of Program Management and Policy (A/LM/PMP) in the administration of its responsibility for providing worldwide logistics services, professional development, and integrated support. The information collected and maintained in this system of records is necessary to ensure fiscal accountability in transporting the effects of Department of State and other Embassy employees.

Routine Uses of Records Maintained in the System, Including Categories of Users and Purposes of Such Uses:

Records in the system of records (ILMS) are used by the Department of State to ensure fiscal accountability in transporting the effects of Department of State and other Embassy employees. Users at the Department of State fall into three categories: Transportation Counselors, Shipping Contractors, and System Administrators. Transportation Counselors are Department and other USG personnel who assist with “Employee Logistics—Transportation” activities (see 14 FAM 500). Typically, Transportation Counselors assist Department of State and other Embassy employees with making shipping arrangements for unaccompanied baggage, household effects, and privately owned motor vehicles. Transportation Counselors in DOS Washington have full access to record fields related to transporting the effects of DOS and other Embassy employees. Transportation Counselors at DOS Dispatch Agencies have limited access to certain record fields. Transportation Counselors at other U.S. Government agencies are provided with limited information from certain record fields as needed. Transportation Counselors at U.S. Missions abroad (i.e., DOS general services officers and locally engaged staff in the shipping section) have read-only access to the “status tracking” portion of ILMS. Shipping Contractors are DOS and other agency contractors (consolidated receiving points at the Dispatch Agencies and commercial moving companies under contract to the U.S. Government). Shipping Contractors are provided with limited information in certain record fields, such as delivery address and telephone number. System Administrators are Department personnel and contractors who operate, support, and maintain the system of records (ILMS). System Administrators will access records only for purposes of remedying problems as a result of the activity. See also the “Routine Uses” paragraphs from the Department's Prefatory Statement.

Policies and Practices for Storing, Retrieving, Accessing, Retaining and Disposing of Records in the System:

Storage:

Electronic media.

Retrievability:

By individual name or other personal identifiers.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and Disposal:

These records will be maintained until they become inactive, at which time they will be retired or destroyed in accordance with published records schedules of the Department of State and as approved by the National Archives and Records Administration. More specific information may be obtained by writing to the Director, Office of Information Programs and Services, SA-2, Department of State, 515 22nd Street, NW., Washington, DC 20522-8100.

System Manager and Address:

Office Director, Program Management and Policy (A/LM/PMP); Department of State; 2201 C Street, NW., Washington, DC 20522.

Notification Procedure:

Individuals who have reason to believe that the A/LM might have records pertaining to themselves should write to the Director; Office of Information Programs and Services; SA-2; Department of State; 515 22nd Street, NW., Washington, DC 20522-8100. The individual must specify that he/she wishes the Integrated Logistics Management System (ILMS) to be checked. At a minimum, the individual should include: name; date and place of birth; current mailing address and zip code; signature; and preferably his/her social security number; if appropriate add: a brief description of the circumstances that caused the creation of the record.

Record Access and Amendment Procedures:

Individuals who wish to gain access to or amend records pertaining to them should write to the Director; Office of Information Programs and Services; SA-2; Department of State; 515 22nd Street, NW.; Washington, DC 20522-8100.

Record Source Categories:

These records contain information obtained primarily from the individual who is the subject of these records.

Systems Exempted from Certain Provisions of the Act:

None.

[FR Doc. 06-1626 Filed 2-17-06; 8:45 am]

BILLING CODE 4710-24-P